DEPARTMENT OF HOMELAND SECURITY

Federal Emergency Management Agency

[Docket ID FEMA-2017-0002; Internal Agency Docket No. FEMA-B-1701]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 5, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1701, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: March 13, 2017.
Roy E. Wright,
Deputy Associate Administrator for Insurance and Mitigation, Department of Homeland Security, Federal Emergency Management Agency.

I. Watershed-based studies:

Community | Community map respository address
Brandywine-Christina Watershed
Maps Available for Inspection Online at: http://www.fema.gov/preliminaryfloodhazarddate
New Castle County, Delaware and Incorporated Areas
City of Newark | Planning and Development Department, 220 South Main Street, Newark, DE 19711.
City of New Castle | Public Works Building, 900 Wilmington Road, New Castle, DE 19720.
City of Wilmington | Department of Licensing and Inspection, 800 North French Street, Wilmington, DE 19801.
Town of Elsmere | Town Hall, 11 Poplar Avenue, Elsmere, DE 19805.
Town of Middletown | Town Hall, 19 West Green Street, Middletown, DE 19709.
Town of Newport | Town Administrative Office, 226 North James Street, Newport, DE 19804.
Unincorporated Areas of New Castle County | New Castle County Land Use Department, 87 Reads Way, New Castle, DE 19720.
Village of Arden | Buzz Ware Village Center, 2119 The Highway, Arden, DE 19810.
Village of Ardentown | New Castle County Land Use Department, 87 Reads Way, New Castle, DE 19720.
Lower West Fork Trinity Watershed
Maps Available for Inspection Online at: www.fema.gov/preliminaryfloodhazarddata
Dallas County, Texas and Incorporated Areas
City of Dallas | Trinity Watershed Management Department, Flood Plain and Drainage Management, 320 East Jefferson Boulevard, Room 307, Dallas, TX 75203.
City of Grand Prairie | City Development Center, 206 West Church Street, Grand Prairie, TX 75050.
City of Irving | Capital Improvement Program Department, 825 West Irving Boulevard, Irving, TX 75060.
Unincorporated Areas of Dallas County | Dallas County Public Works Department, 411 Elm Street, 4th Floor, Dallas, TX 75202.

II. Non-watershed-based studies:

Community | Community map repository address
Kent County, Delaware and Incorporated Areas
Maps Available for Inspection Online at: http://www.fema.gov/preliminaryfloodhazarddata
Project: 13-03-1974S Preliminary Date: February 15, 2016
Unincorporated Areas of Kent County | Kent County Administrative Complex, Department of Planning Services, 555 Bay Road, Dover, DE 19901.
Sussex County, Delaware and Incorporated Areas
Maps Available for Inspection Online at: http://www.fema.gov/preliminaryfloodhazarddata
Project: 13-03-1974S Preliminary Date: February 15, 2016 and November 4, 2016
City of Seaford | City Hall, 414 High Street, Seaford, DE 19973.
Town of Bridgeville | Town Hall, 101 North Main Street, Bridgeville, DE 19933.
Town of Georgetown | Town Hall, 39 The Circle, Georgetown, DE 19947.
Town of Laurel | Code Enforcement Office, 201 Mechanic Street, Laurel, DE 19956.
Town of Millsboro | Town Hall, 322 Wilson Highway, Millsboro, DE 19966.
Unincorporated Areas of Sussex County | Sussex County Planning and Zoning Department, 2 The Circle, Georgetown, DE 19947.
Orange County, Florida and Incorporated Areas
Maps Available for Inspection Online at: http://www.fema.gov/preliminaryfloodhazarddata
Project: 14-04-A056S Preliminary Date: October 30, 2015
City of Orlando | City Hall, Permitting Services, 400 South Orange Avenue, 1st Floor, Orlando, FL 32801.
Unincorporated Areas of Orange County | Orange County Stormwater Management Division, 4200 South John Young Parkway, Orlando, FL 32839.
Bryan County, Georgia and Incorporated Areas
Maps Available for Inspection Online at: http://www.fema.gov/preliminaryfloodhazarddata
Project: 12-04-0912S Preliminary Date: January 15, 2016
City of Richmond Hill | Planning and Zoning Department, 85 Richard R. Davis Drive, Richmond Hill, GA 31324.
Unincorporated Areas of Bryan County | Bryan County Engineering and Inspections Department, 66 Captain Matthew Freeman Drive, Suite 201, Richmond Hill, GA 31324.
Chatham County, Georgia and Incorporated Areas
Maps Available for Inspection Online at: http://www.fema.gov/preliminaryfloodhazarddata
Project: 12-04-0914S Preliminary Date: May 23, 2016
City of Bloomingdale | City Hall, 8 West Highway 80, Bloomingdale, GA 31302.
City of Garden City | City Hall, 100 Central Avenue, Garden City, GA 31405.
City of Pooler | City Hall, 100 Southwest Highway 80, Pooler, GA 31322.
City of Port Wentworth | City Hall, 305 South Coastal Highway, Port Wentworth, GA 31407.
City of Savannah | Department of Development Services, 5515 Abercorn Street, Savannah, GA 31405.
City of Tybee Island | City Hall, 403 Butler Avenue, Tybee Island, GA 31328.
Town of Thunderbolt | Town Hall, 2821 River Drive, Thunderbolt, GA 31404.
Town of Vernonburg | Office of the Town of Vernonburg Mayor, 110 East President Street, 2nd Floor, Savannah, GA 31401.
Unincorporated Areas of Chatham County | Old Chatham County Courthouse, 124 Bull Street, Room 430, Savannah, GA 31401.
Liberty County, Georgia and Incorporated Areas
Maps Available for Inspection Online at: http://www.fema.gov/preliminaryfloodhazarddata
Project: 12-04-0918S Preliminary Date: May 31, 2016
City of Flemington | City Hall, 156 Old Sunbury Road, Flemington, GA 31313.
City of Hinesville | City Hall, 115 East M.L. King, Jr. Drive, Hinesville, GA 31313.
City of Midway | City Hall, 150 Butler Street, Unit D, Midway, GA 31320.
City of Riceboro | City Hall, 4614 South Coastal Highway, Riceboro, GA 31323.
City of Walthourville | City Hall, 222 Busbee Road, Walthourville, GA 31333.
Town of Allenhurst | Liberty County Courthouse Annex, Building and Licensing Department, 112 North Main Street, Room 1200, Hinesville, GA 31313.
Unincorporated Areas of Liberty County | Liberty County Courthouse Annex, Building and Licensing Department, 112 North Main Street, Room 1200, Hinesville, GA 31313.
McIntosh County, Georgia and Incorporated Areas
Maps Available for Inspection Online at: http://www.fema.gov/preliminaryfloodhazarddata
Project: 12-04-0920S Preliminary Date: February 15, 2016
City of Darien | City Hall, 106 Washington Street, Darien, GA 31305.
Unincorporated Areas of McIntosh County | McIntosh County Building and Zoning Department, 100 Madison Street, Darien, GA 31305.
Essex County, Massachusetts (All Jurisdictions)
Maps Available for Inspection Online at: http://www.fema.gov/preliminaryfloodhazarddata
Project: 12-01-1063S Preliminary Date: September 13, 2016
City of Haverhill | City Hall, 4 Summer Street, Haverhill, MA 01830.
Tarrant County, Texas and Incorporated Areas
Maps Available for Inspection Online at: http://www.fema.gov/preliminaryfloodhazarddata
Project: 12-06-3577S Preliminary Date: August 21, 2015 and October 30, 2015
City of Arlington | City Hall, 101 West Abram Street, Arlington, TX 76010.
City of Fort Worth | Department of Transportation and Public Works, 200 Texas Street, Fort Worth, TX 76102.
City of Grand Prairie | City Development Center, 206 West Church Street, Grand Prairie, TX 75050.
City of Haltom City | City Hall, 5024 Broadway Avenue, Haltom City, TX 76117.
City of Hurst | City Hall, 1505 Precinct Line Road, Hurst, TX 76054.
City of North Richland Hills | City Hall, 4301 City Point Drive, North Richland Hills, TX 76180.
City of Richland Hills | City Hall, 3200 Diana Drive, Richland Hills, TX 76118.
City of Saginaw | City Hall, 333 West McLeroy Boulevard, Saginaw, TX 76179.
Town of Edgecliff Village | Municipal Complex, 1605 Edgecliff Road, Edgecliff Village, TX 76134.
Unincorporated Areas of Tarrant County | Tarrant County Transportation Department, 100 East Weatherford Street, Suite 401, Fort Worth, TX 76196.

[FR Doc. 2017-06679 Filed 4-4-17; 8:45 am]

BILLING CODE 9110-12-P